DEPARTMENT OF TRANSPORTATION

Federal Motor Carrier Safety Administration

[Docket No. FMCSA-2008-0362]

Medical Review Board Public Meeting

AGENCY: Federal Motor Carrier Safety Administration (FMCSA), DOT.

ACTION: Notice of Medical Review Board (MRB) public meeting.

SUMMARY: The FMCSA announces that the Agency's MRB will hold a committee meeting on October 19, 2012, in accordance with the Federal Advisory Committee Act (FACA). The meeting will provide the public an opportunity to observe and participate in MRB deliberations and recommendations for updating the field-of-vision (FOV) requirements in the Federal Motor Carrier Safety Regulation (FMCSR) medical standards.

DATES: Meeting Date: The MRB meeting will be held from 1 p.m. to 5 p.m. on October 19, 2012. For specific information, please note the preliminary agenda for this meeting in the SUPPLEMENTARY INFORMATION section of this Notice.

Written Comment Dates: You may submit written comments to the Federal Docket Management System (FDMS) on this topic beginning Friday, October 5, 2012, through Friday, October 12, 2012.

ADDRESSES: The meeting will take place at the Hilton-Alexandria Old Town, 1767 King Street, Alexandria, VA 22314. You may submit written comments bearing the Federal Docket Management System (FDMS) Docket ID FMCSA-2008-0362 using any of the following methods:

• Federal eRulemaking Portal: Go to http://www.regulations.gov. Follow the on-line instructions for submitting comments.

• Mail: Docket Management Facility; U.S. Department of Transportation, 1200 New Jersey Avenue SE., West Building, Room W12-140, Washington, DC 20003-3302.

• Hand Delivery: West Building Ground Floor, Room W12-140, 1200 New Jersey Avenue SE., Washington, DC, between 9 a.m. and 5 p.m. ET., Monday through Friday, except Federal holidays.

• Fax: 1-202-493-2251.

Instructions: Each submission must include the Agency name and FDMS Docket ID for this Notice. Note that DOT posts all comments without change to http://www.regulations.gov, including any personal information included in a comment. Please see the Privacy Act heading below for further information.

Docket: For access to the docket to read background documents or comments received, go to http://www.regulations.gov at any time or Room W12-140 on the ground level of the West Building, 1200 New Jersey Avenue SE., Washington, DC, between 9 a.m. and 5 p.m. ET, Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.).

You may review the DOT's complete Privacy Act Statement in the Federal Register published on April 11, 2000 (65 FR 19477). This information is also available at http://www.regulations.gov.

FOR FURTHER INFORMATION CONTACT: Angela Ward, Nurse Consultant, Medical Programs Division, (202) 366-4001, fmcsamedical@dot.gov. Office hours are from 8 a.m. to 4:30 p.m. ET, Monday through Friday, except Federal holidays.

Information on Services for Individuals With Disabilities

For information on facilities or services for individuals with disabilities or to request special assistance at the meeting, contact Angela Ward on (202) 366-4001 or at fmcsamedical@dot.gov.

SUPPLEMENTARY INFORMATION: The preliminary agenda for the meeting includes:

1:00 p.m.-1:15 p.m. Call to Order, Introduction and Agenda Review

1:15 p.m.-1:45 p.m. Field of Vision Updated Evidence Report

1:45 p.m.-2:00 p.m. Break

2:00 p.m.-3:45 p.m. MRB Deliberation on Field of Vision

3:45 p.m.-4:45 p.m. Public Comment Period

4:45 p.m.-5:00 p.m. Call to Adjourn

The agenda and breaks may be adjusted according to schedule changes and other meeting requirements.

Background

The MRB is comprised of five medical experts who serve staggered, 2-year terms. The U.S. Secretary of Transportation announced those currently serving on the MRB on November 2, 2010, and June 13, 2012. Section 4116 of the Safe, Accountable, Flexible, Efficient Transportation Equity Act: A Legacy for Users (SAFETEA-LU), [Pub. L. 109-59, 119 Stat. 1144, Aug. 10, 2005] requires the Secretary of Transportation, with the advice of the MRB and the chief medical examiner, to establish, review, and revise “medical standards for operators of commercial motor vehicles that will ensure that the physical condition of operators of commercial motor vehicles is adequate to enable them to operate the vehicles safely.”

The MRB operates in accordance with the Federal Advisory Committee Act (FACA) as announced in the Federal Register (70 FR 57642, October 3, 2005). The MRB is charged initially with the review of all current FMCSA medical standards (49 CFR 391.41), as well as proposing new science-based standards and guidelines to ensure that drivers operating commercial motor vehicles (CMVs) in interstate commerce, as defined in 49 CFR 390.5, are physically capable of doing so.

Visual Field Loss in CMV Drivers

Federal safety standards at 49 CFR 391.41(b)(10) state in part, that a person is medically qualified to drive a CMV if the person, “has a field of vision of at least 70° in the horizontal meridian in each eye.” The Agency updated the evidence report released in 2008 on visual field loss and CMV driver safety ¹ and the MRB will use the updated report in deliberations during the October 19, 2012 meeting. The updated evidence report, titled “Visual Field Loss and Commercial Motor Vehicle Driver Safety,” was released in 2012 and is available on the MRB Web site at http://mrb.fmcsa.dot.gov and in the docket for this Notice.

¹ “Vision and Commercial Motor Vehicle Safety,” Volume 1: Evidence Report, June 6, 2008.

Meeting Participation

Attendance is open to the interested public, including medical examiners, motor carriers, drivers, and representatives of medical and scientific associations. Oral comments on the topic from the public will be heard during the last hour (3:45 p.m. to 4:45 p.m.) of the meeting. Oral comments may be limited depending on how many persons wish to comment, and will be accepted on a first come, first serve basis as requestors register at the meeting.

Issued on: September 24, 2012.
Larry W. Minor,
Associate Administrator of Policy.

[FR Doc. 2012-24146 Filed 9-28-12; 8:45 am]

BILLING CODE 4910-EX-P